DEPARTMENT OF COMMERCE

National Oceanic and Atmospheric Administration

[I.D. 090104A]

Marine Mammals; File No. 782-1765-00

AGENCY: National Marine Fisheries Service (NMFS), National Oceanic and Atmospheric Administration (NOAA), Commerce.

ACTION: Issuance of permit.

SUMMARY: Notice is hereby given that Alaska Fisheries Science Center, National Marine Mammal Laboratory, NMFS, 7600 Sand Point Way, NE, Seattle, Washington 98115-0070 (Principal Investigator: John L. Bengtson, Ph.D.) has been issued a permit to conduct research on ice seals in Alaska.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249;

FOR FURTHER INFORMATION CONTACT: Ruth Johnson or Amy Sloan, (301)713-2289.

SUPPLEMENTARY INFORMATION: On July 15, 2004, notice was published in the Federal Register (69 FR 42424) that a request for a scientific research permit to conduct research on ringed seals (Phoca hispida), ribbon seals (Phoca fasciata), and bearded seals (Erignathus barbatus) had been submitted by the above-named organization. The requested permit has been issued under the authority of the Marine Mammal Protection Act of 1972, as amended (16 U.S.C. 1361 et seq.), and the Regulations Governing the Taking and Importing of Marine Mammals (50 CFR part 216).

In compliance with the National Environmental Policy Act of 1969 (42 U.S.C. 4321 et seq.), a final determination has been made that the activity proposed is categorically excluded from the requirement to prepare an environmental assessment or environmental impact statement.

Dated: September 1, 2004.
Stephen L. Leathery,
Chief, Permits, Conservation and Education Division, Office of Protected Resources, National Marine Fisheries Service.

[FR Doc. 04-20342 Filed 9-7-04; 8:45 am]

BILLING CODE 3510-22-S